DEPARTMENT OF AGRICULTURE

Natural Resources Conservation Service in Kentucky

Notice of Proposed Change to Section IV of the Field Office Technical Guide (FOTG) of the Natural Resources Conservation Service in Kentucky

AGENCY: Natural Resources Conservation Service (NRCS) in Kentucky, U.S. Department of Agriculture.

ACTION: Notice of availability of proposed changes in Section IV of the FOTG of the NRCS in Kentucky for review and comment.

SUMMARY: It is the intention of the NRCS in Kentucky to issue revised conservation practice standards: Dike (Code 356), Diversion (Code 362), Forage Harvest Management (Code 511), Irrigation Water Conveyance, Pipeline: Aluminum Tubing (Code 430AA), High-Pressure Underground Plastic (Code 430BB), Low-Pressure Underground Plastic (Code 430EE), Steel (Code 430FF), Pond Sealing or Lining: Flexible Membrane (Code 521A), Soil Dispersant (Code 521B), Bentonite (Code 521C), Cationic Emulsion-Waterborne Sealant (Code 521D), Asphalt Sealed Fabric Liner (Code 521E), Shallow Water Management For Wildlife (Code 646), Streambank & Shoreline Protection (Code 580), Structure for Water Control (Code 587), Subsurface Drain (Code 606), Underground Outlet (Code 620), and Waste Storage Facility (Code 313).

DATE: Comments will be received on or before March 15, 2000.

FOR FURTHER INFORMATION CONTACT: Inquire in writing to David G. Sawyer, State Conservationist, Natural Resources Conservation Service (NRCS), 771 Corporate Drive, Suite 110, Lexington, KY 40503-5479. Copies of the practice standards are made available upon written request.

SUPPLEMENTARY INFORMATION: Section 343 of the Federal Agriculture Improvement and Reform Act of 1996 states that revisions made after enactment of the law to NRCS State Technical Guides used to carry out highly erodible land and wetland provisions of the law shall be made available for public review and comment. For the next 30 days the NRCS in Kentucky will receive comments relative to the proposed changes. Following that period a determination will be made by the NRCS in Kentucky regarding deposition of those comments and a final determination of change will be made.

Dated: February 2, 2000.
David G. Sawyer,
State Conservationist, Natural Resources Conservation Service Lexington, KY.

[FR Doc. 00-3244 Filed 2-11-00; 8:45 am]

BILLING CODE 3410-16-M